DEPARTMENT OF JUSTICE

Notice of Lodging Proposed Consent Decree

In accordance with Departmental Policy, 28 CFR 50.7, notice is hereby given that a proposed Consent Decree in United States v. Bernstein, Civil Action No. 05-B-268 (CBS), was lodged with the United States District Court for the District of Colorado on February 10, 2005.

This proposed Consent Decree concerns a complaint filed by the United States against Frederic M. Bernstein, Henry Y. Yusem, K&J Properties, Inc., Y&B Properties, Inc., Indian Creek Investments, LLC, and ICR, LLC, pursuant to 33 U.S.C. 1319(b) and (d), to obtain injunctive relief from and impose civil penalties against the Defendants for violating the Clean Water Act by discharging pollutants without a permit into waters of the United States. The proposed Consent Decree resolves these allegations by requiring the Defendants to restore the impacted areas and to pay a civil penalty.

The Department of Justice will accept written comments relating to this proposed Consent Decree for thirty (30) days from the date of publication of this Notice. Please address comments to Andrew J. Doyle, Trial Attorney, P.O. Box 23986, Washington, DC 20026-3986, and refer to United States v. Bernstein, DJ #Q90-5-1-1-16840.

The proposed Consent Decree may be examined at the Clerk's Office, United States District Court for the District of Colorado, 901 19th Street, Denver, Colorado. In addition, the proposed Consent Decree may be viewed at http://www.usdoj.gov/enrd/open.html.

Dated: February 11, 2005.
Scott A. Schachter,
Assistant Chief, Environmental Defense Section, Environment & Natural Resources Division.

[FR Doc. 05-3032 Filed 2-16-05; 8:45 am]

BILLING CODE 4410-15-M